DEPARTMENT OF HEALTH AND HUMAN SERVICES

National Institutes of Health

National Center for Research Resources; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Center for Research Resources Special Emphasis Panel, Genetic Resources.

Date: November 8, 2006.

Time: 1:30 p.m. to 3:30 p.m.

Agenda: To review and evaluate grant applications.

Place: National Institutes of Health, 6701 Rockledge Drive, Bethesda, MD 20892, (Telephone Conference Call).

Contact Person: Bonnie Dunn, PhD, Scientific Review Administrator, Office of Review, National Center for Research Resources, National Institutes of Health, 6705 Democracy Blvd., Dem. 1, Room 1074, MSC 4874, Bethesda, MD 20892-4874, 301-435-0824, dunnbo@mail.nih.gov.

Name of Committee: National Center for Research Resources Initial Review Group, Research Centers in Minority Institutions and Infrastructure Development Award Review Committee.

Date: November 8, 2006.

Time: 2 p.m. to 5 p.m.

Agenda: To review and evaluate grant applications.

Place: Gaithersburg Hilton, 620 Perry Parkway, Gaithersburg, MD 20877.

Contact Person: Mahadev Murthy, PhD, MBA, Scientific Review Administrator, Office of Review, National Center for Research Resources, or, National Institutes of Health, 6701 Democracy Blvd., 1 Democracy Plaza, Room 1070, MSC 4874, Bethesda, MD 20892-4874, 301-435-0813, mmurthy@mail.nih.gov.

Name of Committee: National Center for Research Resources Special Emphasis Panel, RCMI/C.O.B.R.E.

Date: November 9-10, 2006.

Time: 8 a.m. to 5 p.m.

Agenda: To review and evaluate grant applications.

Place: Gaithersburg Hilton, 620 Perry Parkway, Gaithersburg, MD 20877.

Contact Person: Mahadev Murthy, MBA, PhD, Scientific Review Administrator, National Center for Research Resources, or, National Institutes of Health, 6701 Democracy Blvd., 1 Democracy Plaza, Room 1070, MSC 4874, Bethesda, MD 20892-4874, 301-435-0813, mmurthy@mail.nih.gov.

Name of Committee: National Center for Research Resources Special Emphasis Panel, Training SEP.

Date: November 16, 2006.

Time: 1:30 p.m. to 3:30 p.m.

Agenda: To review and evaluate grant applications.

Place: National Institutes of Health, 6701 Rockledge Drive, Bethesda, MD 20892, (Telephone Conference Call).

Contact Person: Bonnie Dunn, PhD, Scientific Review Administrator, Office of Review, National Center for Research Resources, National Institutes of Health, 6705 Democracy Blvd., Dem. 1, Room 1074, MSC 4874, Bethesda, MD 20892-4874, 301-435-0824, dunnbo@mail.nih.gov.

(Catalogue of Federal Domestic Assistance Program Nos. 93.306, Comparative Medicine; 93.333, Clinical Research; 93.371, Biomedical Technology; 93.389, Research Infrastructure; 93.306, 93.333, National Institutes of Health, HHS)

Dated: October 16, 2006.
Anna Snouffer,
Acting Director, Office of Federal Advisory Committee Policy.

[FR Doc. 06-8816 Filed 10-19-06; 8:45 am]

BILLING CODE 4140-01-M